ENVIRONMENTAL PROTECTION AGENCY

40 CFR Part 437

[FRL-7555-5]

RIN 2040-AD95

Effluent Limitations Guidelines, Pretreatment Standards, and New Source Performance Standards for the Centralized Waste Treatment Point Source Category

AGENCY: Environmental Protection Agency.

ACTION: Proposed rule.

SUMMARY: The Environmental Protection Agency (EPA) is proposing to amend certain provisions of the wastewater regulations for the Centralized Waste Treatment Point Source Category. This regulation established effluent limitations guidelines, pretreatment standards and new source performance standards under the Clean Water Act (CWA) for the centralized waste treatment industry (CWT). Following promulgation of the regulations, a number of CWT facilities petitioned EPA to reconsider the limitations and standards for certain pollutants. Today's proposal provides a preliminary response to those petitions and the supporting data submitted by the petitioners. The amendments would delete certain selenium limitations and standards from the Metals Treatment and Recovery subcategory, as well as the the Multiple Wastestreams subcategory. This action also proposes to delete the barium, molybdenum, antimony, and titanium limitations and standards from the Oils Treatment and Recovery subcategory, and revise the Multiple Wastestreams subcategory, to reflect these changes. Furthermore, this proposal would increase the maximum monthly average BOD5 limitation for directly discharging facilities subject to a section of the Multiple Wastestreams subcategory. Finally, several facilities petitioned EPA to remove the molybdenum limitations from the Organics Treatment and Recovery subcategory and revise the Multiple Wastestreams subcategory. Based on EPA's preliminary analysis of the data received to date, EPA has not yet determined whether it is appropriate to remove these limitations. Therefore, this notice requests additional information on the achievability of the molybdenum limitations in the Organics Treatment and Recovery Subcategory and explains what data the Agency needs to demonstrate that molybdenum should not continue to be regulated in this subcategory.

DATES: Comments must be received by October 10, 2003. Persons wishing to request a public hearing regarding the pretreatment standards must do so by September 25, 2003. If commenters request a public hearing, EPA will hold a public hearing on these proposed pretreatment standards on October 10, 2003 from 10 a.m. to 12 noon, see Section I.F.

ADDRESSES: You can submit comments electronically, by mail, or through hand delivery/courier. Please mail comments to the Water Docket, Environmental Protection Agency, Mailcode: 4101T, 1200 Pennsylvania Avenue, NW., Washington, DC, 20460 or submit them electronically to http://www.epa.gov/edocket. Send either to the Attention of Docket ID No. OW-2003-0075. For more information on submitting comments, see Section I.C. If commenters request a public hearing on the pretreatment standards, EPA will hold a public hearing in Room 6231-F in the EPA-West Building, 1301 Constitution Avenue, NW., Washington DC.

FOR FURTHER INFORMATION CONTACT: Elwood H. Forsht, EPA Office of Water by phone at (202)566-1025 or by e-mail at forsht.elwood@epa.gov. For information on how to get copies of this document and other related information see Section I.B.

SUPPLEMENTARY INFORMATION:

I. General Information

A. Regulated Entities

Entities potentially regulated by this action include the following types of facilities that discharge pollutants directly or indirectly to U.S. waters.

Category | Examples of regulated entities | NAICS codes
Industry | Discharges from stand-alone waste treatment and recovery facilities receiving materials from off-site. These facilities may treat hazardous or non-hazardous waste, hazardous or non-hazardous wastewater, and/or used material from off-site, for disposal, recycling, or recovery Certain discharges from waste treatment systems at facilities primarily engaged in other industrial operations. Industrial facilities that process their own, on-site generated, process wastewater with hazardous or non-hazardous wastes, wastewaters, and/or used material received from off-site, in certain circumstances, may be subject to this rule with respect to a portion of their discharge | 56221, 562219

This table is not intended to be exhaustive, but rather provides a guide for readers regarding entities likely to be regulated by this action. This table lists the types of entities that EPA is now aware could potentially be regulated by this action. Other types of entities not listed in the table could also be regulated. To determine whether your facility is regulated by this action, you should carefully examine the definitions and applicability criteria in §§ 437.1, 437.2, 437.10, 437.20, 437.30, and 437.40 of title 40 of the Code of Federal Regulations. If you have questions about the applicability of this action to a particular entity, consult the person listed in the preceding FOR FURTHER INFORMATION CONTACT section.

B. How Can I Get Copies of This Document and Other Related Information?

1. Docket. EPA has established an official public docket for this action under Docket ID No. OW-2003-0075. The official public docket consists of the documents specifically referenced in this action, any public comments received, and other information related to this action. The official public docket is the collection of materials that is available for public viewing at the Water Docket in the EPA Docket Center, (EPA/DC) EPA West, Room B102, 1301 Constitution Ave., NW., Washington, DC. The EPA Docket Center Public Reading Room is open from 8:30 a.m. to 4:30 p.m., Monday through Friday, excluding legal holidays. The telephone number for the Public Reading Room is (202) 566-1744, and the telephone number for the Water Docket is (202) 566-2426. To view these docket materials, please call ahead to schedule an appointment. Every user is entitled to copy 266 pages per day before incurring a charge. The Docket may charge 15 cents a page for each page over the 266-page limit plus an administrative fee of $25.00.

2. Electronic Access. You may access this Federal Register document electronically through the EPA Internet under the “Federal Register” listings at http://www.epa.gov/fedrgstr/.

An electronic version of the public docket is available through EPA's electronic public docket and comment system, “EPA Dockets.” You may use EPA Dockets at http://www.epa.gov/edocket/ to submit or view public comments, access the index listing of the contents of the official public docket, and access those documents in the public docket that are available electronically. Once in the system, select “search,” then key in the appropriate docket identification number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic docket. Although not all docket materials may be available electronically, you may still access any of the publicly available docket materials through the docket facility identified in Section I.B.1.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic docket. The entire printed comment, including the copyrighted material, will be available in the public docket.

Public comments submitted on computer disks that are mailed or delivered to the docket will be transferred to EPA's electronic public docket. Public comments that are mailed or delivered to the Docket will be scanned and placed in EPA's electronic public docket. Where practical, physical objects will be photographed, and the photograph will be placed in EPA's electronic public docket along with a brief description written by the docket staff.

C. How and To Whom Do I Submit Comments?

You may submit comments electronically, by mail, or through hand delivery/courier. Please submit with your comments any references cited in your comments. To ensure proper receipt by EPA, identify the appropriate docket identification number in the subject line on the first page of your comment. Please ensure that your comments are submitted within the specified comment period. Comments received after the close of the comment period will be marked “late.” EPA is not required to consider these late comments. If you wish to submit CBI or information that is otherwise protected by statute, please follow the instructions in Section I.D. Do not use EPA Dockets or e-mail to submit CBI or information protected by statute.

1. Electronically. If you submit an electronic comment as prescribed below, EPA recommends that you include your name, mailing address, and an e-mail address or other contact information in the body of your comment. Also include this contact information on the outside of any disk or CD-ROM you submit, and in any cover letter accompanying the disk or CD-ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket, and follow the online instructions for submitting comments. To access EPA's electronic public docket from the EPA Internet Home Page, select “Information Sources,” “Dockets,” and “EPA Dockets.” Once in the system, select “search,” and then key in Docket ID No. OW-2003-0075. The system is an “anonymous access” system, which means EPA will not know your identity, e-mail address, or other contact information unless you provide it in the body of your comment.

ii. E-mail. Comments may be sent by electronic mail (e-mail) to OW-Docket@epa.gov, Attention Docket ID No. OW-2003-0075. In contrast to EPA's electronic public docket, EPA's e-mail system is not an “anonymous access” system. If you send an e-mail comment directly to the Docket without going through EPA's electronic public docket, EPA's e-mail system automatically captures your e-mail address. E-mail addresses that are automatically captured by EPA's e-mail system are included as part of the comment that is placed in the official public docket, and made available in EPA's electronic public docket.

iii. Disk or CD-ROM. You may submit comments on a disk or CD-ROM that you mail to the mailing address identified in Section I..C.2. These electronic submissions will be accepted in Word Perfect or ASCII file format. Avoid the use of special characters and any form of encryption.

2. By Mail. Send an original and three (3) copies of your comments and any references cited in your comments to the Water Docket, Environmental Protection Agency, Mailcode 4101T, 1200 Pennsylvania Ave., NW., Washington, DC, 20460, Attention Docket ID No. OW-2003-0075.

3. By Hand Delivery or Courier. Deliver your comments to: Water Docket, EPA Docket Center, EPA West, Room B102, 1301 Constitution Ave., NW., Washington, DC, Attention Docket ID No. OW-2003-0075. Such deliveries are only accepted during the Docket's normal hours of operation as identified in Section I.B.1.

D. How Should I Submit CBI to the Agency?

Do not submit information that you consider to be CBI electronically through EPA's electronic public docket or by e-mail. Send information identified as CBI by mail only to the following address: Office of Science and Technology, Mailcode 4303T, U.S. Environmental Protection Agency, 1200 Pennsylvania Ave., NW., Washington, DC 20460, Attention: Elwood Forsht, Docket ID No. OW-2003-0075.

You may claim information that you submit to EPA as CBI by marking any part or all of that information as CBI (if you submit CBI on disk or CD-ROM, mark the outside of the disk or CD-ROM as CBI and then identify electronically within the disk or CD-ROM the specific information that is CBI). Information so marked will not be disclosed except in accordance with procedures set forth in 40 CFR part 2.

In addition to one complete version of the comment that includes any information claimed as CBI, a copy of the comment that does not contain the information claimed as CBI must be submitted for inclusion in the public docket and EPA's electronic public docket. If you submit the copy that does not contain CBI on disk or CD-ROM, mark the outside of the disk or CD-ROM clearly that it does not contain CBI. Information not marked as CBI will be included in the public docket and EPA's electronic public docket without prior notice. If you have any questions about CBI or the procedures for claiming CBI, please consult the person identified in the FOR FURTHER INFORMATION CONTACT section.

E. What Should I Consider as I Prepare My Comments for EPA?

You may find the following suggestions helpful for preparing your comments:

1. Explain your views as clearly as possible.

2. Describe any assumptions that you used.

3. Provide any technical information and/or data you used that support your views.

4. If you estimate potential burden or costs, explain how you arrived at your estimate.

5. Provide specific examples to illustrate your concerns.

6. Offer alternatives.

7. Make sure to submit your comments by the comment period deadline identified.

8. To ensure proper receipt by EPA, identify the appropriate docket identification number in the subject line on the first page of your response. It would also be helpful if you provided the name, date, and Federal Register citation related to your comments.

F. Pretreatment Hearing Information

If commenters request a public hearing on the pretreatment standards, a hearing will be held on October 10, 2003. During the pretreatment hearing, the public will have the opportunity to provide oral comment to EPA. EPA will not address any issues raised during the hearing at that time but these comments will be recorded and included in the public record for the rule. Persons wishing to attend or to present formal comments at the public hearing should contact Mr. Elwood Forsht before September 25, 2003 and should have a written copy for submittal at the hearing.

II. Legal Authority

The U.S. Environmental Protection Agency is promulgating these regulations under the authority of 33 U.S.C. 1311, 1314, 1316, 1317, 1318, 1342 and 1361.

III. Overview of Effluent Limitations Guidelines and Standards for Centralized Waste Treatment

Congress adopted the Clean Water Act (CWA) to “restore and maintain the chemical, physical, and biological integrity of the Nation's waters” (section 101(a), 33 U.S.C. 1251(a)). To achieve this, the CWA prohibits the discharge of pollutants into navigable waters except in compliance with the statute. The CWA confronts the problem of water pollution on a number of different fronts. It relies primarily, however, on establishing restrictions on the types and amounts of pollutants discharged from various industrial, commercial, and public sources of wastewater.

Congress recognized that regulating only those sources that discharge effluent directly into the Nation's waters would not achieve the CWA's goals. Consequently, the CWA requires EPA to set nationally-applicable pretreatment standards that restrict pollutant discharges for those who discharge wastewater indirectly through sewers flowing to publicly-owned treatment works (POTWs) (section 307(b) and (c), 33 U.S.C. 1317(b) and (c)). National pretreatment standards are established for those pollutants in wastewater from indirect dischargers which may pass through or interfere with POTWs operations. Generally, pretreatment standards are designed to ensure that wastewater from direct and indirect industrial dischargers are subject to similar levels of treatment. POTWs must also implement local pretreatment limits applicable to their industrial indirect dischargers to satisfy local requirements (40 CFR 403.5).

Direct dischargers must comply with effluent limitations in National Pollutant Discharge Elimination System (NPDES) permits; indirect dischargers must comply with pretreatment standards. These limitations and standards are established by regulation for categories of industrial dischargers and are based on the degree of control that can be achieved using various levels of pollution control technology.

On December 22, 2000, EPA promulgated regulations establishing effluent limitations guidelines, pretreatment standards for new and existing sources, and new source performance standards for the Centralized Waste Treatment (CWT) Point Source Category (65 FR 81242).

The regulations control the discharges from CWT facilities that receive waste, wastewater, or used material from off-site. EPA established limitations and standards for four CWT subcategories. The first three subcategories cover facilities that treat or recover only one type of waste, either metal-bearing (Subcategory A—Metals Treatment and Recovery), oily (Subcategory B—Oils Treatment and Recovery), or organic (Subcategory C—Organics Treatment and Recovery). The fourth subcategory, Subcategory D—Multiple Wastestreams, covers facilities that treat or recover some combination of metal-bearing, oily, and organic wastes, wastewater, or used material received from off-site. Using Subcategory D limitations and standards simplifies implementation of the rule and compliance monitoring for CWT facilities that treat wastes subject to more than one of the first three subcategories. These facilities may choose to comply with the provisions of the multiple wastestreams subcategory D rather than subcategories A, B, or C. However, they must certify that an equivalent treatment system is installed and properly designed, maintained, and operated.

After the Agency published the December 2000 final rule, facilities in the regulated community conducted compliance monitoring studies and began to develop compliance strategies for the regulated pollutants. Based on these efforts, several members of the regulated community and a trade association submitted new information to the Agency and asked EPA to revise certain aspects of the final rule. After our own analysis and review, we determined that EPA should propose several minor modifications to the current rule.

IV. Amendment To Delete Selenium From the Metals Treatment and Recovery Subcategory

EPA is proposing to amend 40 CFR part 437 by deleting the respective Best Practicable Control Technology Currently Available (BPT), Best Available Technology Economically Achievable (BAT), Pretreatment Standards for Existing Sources (PSES), and Pretreatment Standards for New Sources (PSNS) limitations and standards for selenium from §§ 437.11, 437.13, 437.15 and 437.16. Section VI below describes the revision to the related segments of the Multiple Wastestreams Subcategory to reflect deletion of selenium from these sections of the Metals Treatment and Recovery Subcategory. In the December 2000 final rule, EPA established, for the Metals Treatment and Recovery Subcategory, direct discharge limitations and standards as well as pretreatment standards for selenium and 15 other metal pollutants. The model technology for the BPT, BAT, PSES and PSNS limitations and standards was primary chemical precipitation, liquid-solid separation, secondary chemical precipitation, clarification, and sand filtration. EPA is not proposing to delete the New Source Performance Standards (NSPS) for selenium because the standards are based on a different model treatment system involving the use of selective metals precipitation

While the data demonstrate that the technology EPA evaluated as the basis for the BPT, BAT, PSES, and PSNS limitations and standards removes selenium, they also show that selenium removal was achieved only in the last stage of the model treatment system—the sand filtration polishing step. The sand filtration polishing step was included in the model technology to ensure compliance with total suspended solids limits (TSS) and not designed to achieve specific metal removals. While it is true that the removal of solids associated with sand filtration will include the removal of associated metals, these metals removals are not achieved at a consistent or predictable rate. It was not EPA's intention to regulate a metal for which removals were obtained only during this final, polishing step of an extended treatment train. EPA is not certain that the identified removals were not an artifact of the particular data set or that such removals are consistent and predictable with this technology. While removals were observed, EPA is not certain that facilities would be able to achieve the consistent removals required for compliance with a specific regulatory limit for selenium. Selenium is the only metal pollutant parameter regulated by the CWT regulation that falls into this category. The docket includes documents which describe EPA's review of the selenium data (DCS 47.1 and 47.2).

Although EPA proposes to delete the regulatory limits for selenium in the selected sections, operation of treatment systems required to achieve compliance with the 14 other metals limits will ensure some continued removal of selenium, even if not at a consistent and predictable rate. EPA estimates that assuming no selenium removals would decrease EPA's December 22, 2000, estimated metals subcategory pollutant reductions by 53 lbs/yr or nearly zero percent of the total estimated reduction of 163 million lbs/yr. Expressed as toxic pound-equivalents, the decrease as a result of assuming no selenium removals is 0.014 percent or 59 lb-eq/yr out of the total estimated reduction of 415,383 lb-eq/yr (DCN 47.3).

V. Amendment To Remove Barium, Molybdenum, Antimony, and Titanium From the Oils Treatment and Recovery Subcategory

In the December 2000 final rule, EPA established, for the Oils Treatment and Recovery Subcategory, direct discharge limitations and standards for barium, molybdenum, antimony, and titanium as well as 18 other pollutants; and pretreatment standards for barium, molybdenum, and antimony as well as 11 other pollutants. The model technology that was the basis for the BPT, BAT, NSPS, and PSNS limitations and standards was emulsion breaking/gravity separation, secondary gravity separation and dissolved air flotation (DAF). The PSES model technology basis was emulsion breaking/gravity separation and DAF.

After publication of the final rule, members of the regulated community evaluated different engineering strategies for complying with the promulgated limitations and standards. Several companies and a trade association submitted new information to EPA demonstrating that the model technology did not consistently remove certain pollutants from oils wastestreams in specified circumstances. They concluded and reported to EPA that the limitations and standards were not technically achievable, petitioning EPA to delete these pollutants from the regulated parameters.

Based on the data submitted to the Agency concerning metals removal and the model technology, EPA reexamined the technology to determine whether it would achieve consistent and predictable removals of metal pollutants. As noted above, the model technology consists of emulsion breaking/gravity separation, secondary gravity separation and DAF. During the DAF phase of treatment, surface active agents, coagulating agents, and polyelectrolytes are added to the wastewater and the pH of the system is adjusted. The effect of the addition of coagulating agents and pH adjustment is to promote precipitation of metals and their consequent removal. Different metals are removed more effectively at different concentrations of coagulating agents and at different pH levels. EPA examined its data base to identify which of the metals pollutants were removed consistently and predictably by the treatment system that was the basis for the final limitations. The result of this review demonstrated that removals were not consistent and predictable for the following pollutants: Barium, molybdenum, antimony and titanium. As a result, EPA proposes to remove the limitations and standards for barium, molybdenum, antimony and titanium from Subcategory B and modify the related provisions of Subcategory D to reflect these changes.

Even though this amendment would delete the limitations and standards for these four metal pollutants, the control of other metal pollutants ensures some incidental removals for these parameters. For direct discharge facilities, limitations for nine other metals remain in place. For indirect discharge facilities, pretreatment standards for six other metals remain in place.

A. Barium

EPA proposes to amend 40 CFR part 437 by deleting the respective BPT, BAT, NSPS, PSES, and PSNS limitations and standards for barium from §§ 437.21, 437.23, 437.24, 437.25 and 437.26. Section VI below describes the methodology used to revise the related segments of the Multiple Wastestreams Subcategory to reflect deletion of barium from the Oils Treatment and Recovery subcategory.

EPA received information and data from several companies and a CWT trade association concerning barium concentrations in different types of waste receipts treated at CWT facilities. EPA evaluated this information and concluded that its model technology would not reliably and consistently remove barium to the limits required in the oils subcategory. The record includes the additional information provided to the Agency with the request for changes to the regulation and EPA's review of that information (DCNs 43.2.49, 43.2.51, 43.2.54, 43.2.60, 44.1.1, 44.2, 44.3, 45.29.1, and 47.7).

The commenters noted that CWT facilities accept a variety of oily waste receipts that contain barium including used lubricating oils and greases and oil and gas extraction drilling fluids and brine. The information and data indicates that barium is usually precipitated as barium sulfate and that sedimentation rather than dissolved air flotation would provide more consistent barium removals.

EPA's single-stage DAF model treatment system was designed primarily to remove suspended solids and dispersed oil and grease from oily wastewater. The use of treatment chemicals provides an effective means of increasing the efficiencies of DAF treatment systems in removing suspended solids and may also enhance the removal of metals (DCN 41.2, pages 8-13 to 15). The operating conditions of the model treatment technology evaluated for the final regulation included the addition of treatment chemicals (aluminum sulfate, caustic soda, and polymers). Use of aluminum sulfate (alum) precipitates barium sulfate which has a specific gravity 4.5 times heavier than water; the use of polymers flocculate suspended particles.

Because of the density of barium sulfate and the use of polymers, large floc formations would tend to sink and smaller floc formations would tend to float. However, if colloidal suspensions are formed, DAF would tend to be ineffective. Therefore, removing barium sulfate by DAF requires a careful balance between forming a large enough floc to be floated but not too large to sink. In this situation, it appears that the model DAF technology would not reliably and consistently provide the pollutant reductions that form the basis for the promulgated limitations. Thus, EPA proposes to remove the limitations and standards for barium from Subcategory B and the associated provisions of Subcategory D. We did not intend to regulate a pollutant in the oils waste receipts subcategory for which compliance could not be consistently and predictably achieved with the model DAF treatment system.

Although EPA proposes to delete the regulatory limits for barium, operation of treatment systems required to achieve compliance with other metals limits will ensure some continued removal of barium, even if not at a consistent and predictable rate. Even if there were no incidental removals for barium, the estimated pollutant reduction for this regulation remains relatively unchanged, i.e., the December 22, 2000, estimated oils subcategory pollutant reductions would decrease by 2,115 lbs/yr or 0.22 percent of the total estimated reduction of 941,622 lbs/yr. Expressed as toxic pound-equivalents, the decrease as a result of assuming no barium removals is less than 0.008 percent or 4 lb-eq/yr out of the total estimated reduction of 52,447 lb-eq/yr (DCN 47.3).

B. Molybdenum, Antimony, and Titanium

EPA proposes to amend 40 CFR part 437 by deleting the respective BPT, BAT, and NSPS limitations and standards for molybdenum, antimony, and titanium from §§ 437.21, 437.23, 437.24; and by deleting the respective PSES and PSNS standards for molybdenum and antimony from §§ 437.25 and 437.26. Section VI below describes the methodology used to revise the related segments of the Multiple Wastestreams Subcategory to reflect deletion of molybdenum, antimony, and titanium from the Oils Treatment and Recovery subcategory.

EPA's single-stage DAF model treatment system was designed primarily to remove suspended solids and dispersed oil and grease from oily wastewater. The use of treatment chemicals provides an effective means of increasing the efficiencies of DAF treatment systems in removing suspended solids and may also enhance the removal of metals (DCN 41.2, pages 8-13 to 15). The conditions under which the model treatment technology operated which EPA evaluated for the final limitations and standards included the addition of treatment chemicals (aluminum sulfate, caustic soda, and polymer) with pH adjustments to relatively strong base levels between 9 to 11. These operating conditions optimize the removals of the more traditional heavy metals including chromium, zinc, lead, nickel, copper, and cadmium.

After publication of the December 2000 final rule, the regulated community evaluated several different engineering strategies for complying with the limitations and standards. Several companies and a CWT trade association submitted new information to EPA demonstrating that the model technology would not consistently remove certain pollutants from oils wastestreams in specified circumstances. They concluded and reported to EPA that the antimony, molybdenum, and titanium limitations and standards were not technically achievable, petitioning EPA to delete these pollutants as regulated parameters. The docket includes the additional information provided to the agency and EPA's review of that information (DCNs 45.12.1, 45.12.2, 45.12.3, 45.12.4, 45.25, 45.25.2, 46.5.1, 46.5.2, 46.5.3, 46.10, 46.11, 46.12, 46.15, 46.21, and 47.5).

Based on the materials submitted to the Agency, EPA reexamined its model technology and the associated removal data. The new information and data demonstrate that the oils subcategory model DAF treatment technology is unable to consistently meet the antimony, molybdenum, and titanium oils subcategory limitations and standards. Furthermore, the new data demonstrate that optimum removals of antimony, molybdenum, and titanium require treatment with high concentrations of iron (ranging from 1,000 to 5,000 mg/l ) and, for antimony and molybdenum, pH adjustments to relatively strong acid levels between 4 to 5. Therefore, to ensure compliance with the antimony, molybdenum, and titanium limitations and standards, many oily waste facilities would need to add a second-stage chemical precipitation step operated at a relatively low pH (between 4 and 5) and/or the addition of large quantities of iron (1,000 to 5,000 mg/l), and followed by clarification or filtration.

EPA did not intend to regulate a pollutant in the oils waste receipts subcategory for which compliance could only be obtained with the addition of uniquely designed chemical precipitation systems to the model technology. Based on the information and data provided, we conclude that in many situations CWT facilities subject to Subpart B would not be able to comply with the antimony, molybdenum, and titanium limitations and standards through the use of the model DAF technology alone. Many facilities would need to add chemical precipitation unit operations uniquely designed for antimony, molybdenum, and titanium removal. Due to these circumstances, EPA proposes to remove the limitations and standards for these pollutants from Subcategory B and revise the associated provisions of Subcategory D.

Although EPA proposes to delete the regulatory limits for antimony, molybdenum, and titanium, operation of treatment systems required to achieve compliance with other metals limits will ensure some continued removal of antimony, molybdenum, and titanium, even if not at consistent and predictable rates. Even if there were no incidental removals for antimony, molybdenum, and titanium, the estimated oils subcategory pollutant reduction for this regulation remains relatively unchanged, i.e., the December 22, 2000, estimated pollutant reductions would decrease by 7,828 lbs/yr or 0.83 percent of the total estimated reduction of 941,622 lbs/yr. Expressed as pollutant pound-equivalents, the decrease as a result of assuming no antimony, molybdenum, and titanium removals is about 2.89 percent or 1,518 lb-eq/yr out of the total estimated reduction of 52,447 lb-eq/yr (DCN 47.3).

VI. Amendment To Revise the Related Multiple Wastestreams Subcategory Segments

EPA, in the December 2000 final rule, established limitations and standards for facilities that treat a combination of metal-bearing, oily or organic wastes, wastewater or used material. Use of these Multiple Wastestreams Subcategory limitations and standards simplifies implementation of the rule and compliance monitoring for CWT facilities that treat wastes subject to more than one of the other subcategories. These facilities may elect to comply with the provisions of the Multiple Wastestreams Subcategory rather than the applicable individual provisions of the metals, oils, and organics treatment and recovery subcategories in the circumstances described in 40 CFR 437.40.

EPA developed four sets of limitations for each of the possible combinations of the three subcategories of wastestreams. These are mixtures of (1) metal-bearing, oils, and organics waste receipts; (2) metal-bearing and oils waste receipts; (3) metal-bearing and organics waste receipts; and (4) oils and organics waste receipts. EPA derived these limitations and standards by combining pollutant limitations and standards from each possible combination of subcategories and selecting the most stringent pollutant values where they overlap. (For each pollutant, EPA selected the most stringent maximum monthly average limitations and its corresponding maximum daily limitation.) Today's proposal would modify the Multiple Wastestreams Subcategory limitations and standards to account for the removal of selenium from the Metals Subcategory limitations and standards and the removal of barium, molybdenum, antimony and titanium from the Oils Treatment and Recovery Subcategory.

A. Selenium

EPA proposes to amend 40 CFR part 437 by deleting the respective BPT, BAT, PSES, and PSNS limitations and standards for selenium from §§ 437.42(b), (c), and (d); 437.44(b), (c), and (d); 437.46(b), (c), and (d); and 437.47(b), (c), and (d). Because selenium was regulated in the Metals Treatment and Recovery Subcategory but not in the Oils or Organics Treatment and Recovery Subcategories, there are no overlapping limitations for this pollutant. Therefore, the result of deleting selenium from the BPT, BAT, PSES, and PSNS segments of the metals subcategory (see Section IV above) would be that selenium limitations and standards would remain only in the NSPS segment of the Multiple Wastestreams Subcategory. The selenium NSPS standards are based on a different model treatment system involving the use of selective metals precipitation.

B. Barium

EPA proposes to amend 40 CFR part 437 by deleting the respective BPT, BAT, NSPS, PSES, and PSNS limitations and standards for barium from §§ 437.42(b), (c), and (e); 437.44(b), (c), and (e); 437.45(b), (c), and (e); 437.46(b), (c), and (e); and 437.47(b), (c), and (e). Because barium was regulated in the Oils Treatment and Recovery Subcategory but not in the Metals or Organics Treatment and Recovery Subcategories, there are no overlapping limitations for this pollutant. Therefore, the result of deleting barium from the oils subcategory (see Section V above) is that there would be no barium limitations and standards for any segment of the Multiple Wastestreams Subcategory.

C. Molybdenum

EPA proposes to amend 40 CFR part 437 by deleting the respective BPT, BAT, NSPS, PSES, and PSNS limitations and standards for molybdenum from §§ 437.42(c), 437.44(c), 437.45(c), 437.46(c), and 437.47(c). EPA had originally promulgated molybdenum limitations for the Oils Treatment and Recovery Subcategory and the Organics Treatment and Recovery Subcategory but not in the Metals Treatment and Recovery Subcategory. If EPA promulgates this amendment as proposed, there would be limitations for this pollutant only in the organics subcategory. Since the organics subcategory molybdenum limitations were more stringent than those in the oils subcategory, the molybdenum limitations in the related segments of the multiple wastestreams subcategory would continue to be based on the organics subcategory limitations.

D. Antimony

EPA proposes to amend 40 CFR part 437 by deleting the respective PSES and PSNS standards for antimony from §§ 437.46(e) and 437.47(e), and by revising the respective BPT, NSPS, PSES, and PSNS limitations and standards for antimony in §§ 437.42(b), (c), and (e), 437.45(e), 437.46(b) and (c), and 437.47(b) and (c).

Because antimony was originally regulated for indirect discharges in the Metals and Oils Treatment and Recovery Subcategories but not in the Organics Treatment and Recovery Subcategory, there would be PSES and PSNS standards for this pollutant only in the Metals subcategory, if EPA promulgates the amendments as proposed. The antimony standards in the related indirect discharge segments of the Multiple Wastestreams subcategory would therefore be based on the Metals subcategory limitations.

In the December 2000 rule, EPA regulated antimony for direct discharges in the Metals, Oils, and Organics Treatment and Recovery Subcategories. If EPA promulgates this amendment as proposed, there would be BPT, BAT, and NSPS limitations and standards for this pollutant only in the Metals and Organics subcategories. Therefore the BPT, BAT, and NSPS antimony limitations and standards in the related direct discharge segments of the Multiple Wastestreams subcategory would be based on the most stringent antimony limitations in the overlapping Metals and Organics subcategories.

E. Titanium

EPA proposes to amend 40 CFR part 437 by deleting the respective BPT, BAT, and NSPS limitations and standards for titanium from §§ 437.42(e), 437.44(e), and 437.45(e), and by revising the respective BPT limitations for titanium in §§ 437.42(b) and (c). Because titanium was regulated for direct discharges in the Metals and Oils Treatment and Recovery Subcategories but not in the Organics Treatment and Recovery Subcategory, there would be BPT, BAT, and NSPS limitations and standards for this pollutant only in the metals subcategory, if EPA promulgates this amendment as proposed. Therefore the BPT, BAT, and NSPS titanium limitations and standards in the related direct discharge segments of the Multiple Wastestreams subcategory would be based on the titanium limitations and standards in the Metals subcategory.

VII. Corrections and Edits to 40 CFR 437

EPA proposes to correct a technical error contained in the December 22, 2000, final rule. The Federal Register publication of the final rule (65 FR 81241) contained an error in § 437.42(d) for the maximum monthly average BOD5 limitation for direct discharge facilities subject to the Multiple Wastestreams Subcategory for combined metals and organics waste receipts. The 3.0 mg/l BOD5 maximum monthly average limitation is revised to read 53.0 mg/l. This matches the limitation in the final rule signed by the Administrator on August 28, 2000. The correct 53.0 mg/l BOD5 limitation for this segment is reflected in the August 2000 “Development Document for Effluent Limitations Guidelines and Standards for the Centralized Waste Treatment Industry—Final,” (EPA 821-R-00-020) as well as the supporting information and analyses in the record.

The “Authority” citation is revised to conform with current guidance from the Federal Register Office.

VIII. Summary of Proposed Actions and Solicitation of Data and Comments

A. Summary of Proposed Actions

The Agency is proposing to delete certain limitations and standards for selenium from the metals subcategory and for antimony, barium, molybdenum, and titanium from the oils subcategory. The proposal also reflects these changes in the multiple wastestreams subcategory. We have concluded that the model technologies that provided the basis for the limitations and standards do not consistently and predictably remove these pollutants to the specified levels for compliance. Nevertheless, operation of treatment systems required to achieve compliance with other metals limits will ensure some continued removal of these five metals, even if not at consistent and predictable rates. Even if there were no incidental removals for these metals, the estimated pollutant reduction for this regulation remains relatively unchanged, i.e., the December 22, 2000, estimated pollutant reductions would decrease by 9,996 lbs/yr or 0.006 percent of the total estimated reduction of 166,125,128 lbs/yr for the CWT regulation. Expressed as toxic pound-equivalents, the decrease as a result of assuming no removals for these metals is 0.32 percent or 1,581 lb-eq/yr out of the total estimated reduction of 487,644 lb-eq/yr for the CWT regulation (DCN 47.8).

Even though EPA does not believe that the potential increases in pollutant discharges related to the proposed amendments result in any significant environmental effects, we will continue to monitor the discharges from this industry as part of the biennial Effluent Guidelines Program Plans required under section 304(m) of the Clean Water Act.

B. Solicitation of Data and Comments

EPA invites and encourages public participation in this rulemaking. The Agency asks that commenters address whether the record supports EPA's conclusions that the technology on which it based the final limitations and standards does not provide consistent and predictable removals for the pollutants the Agency has proposed to delete from the regulation. Any suggestions for changes or revisions should be supported by adequate technical data.

EPA is particularly interested in receiving comment on an issue raised by the National Oil Recyclers Association (NORA) in its request for deletion of molybdenum limitations from certain subcategories. NORA submitted information to the Agency with a request that EPA delete the molybdenum limitations and standards from the Organics Treatment and Recovery subcategory and from the related sections of the Multiple Wastestreams subcategory (DCNs 45.32 and 45.33). They state that many CWT organics subcategory facilities have molybdenum influent raw waste concentrations that are too high for effective biological treatment. Based on our preliminary assessment of this new information and data we will probably delete the molybdenum limitations from the organics subcategory. However, we are seeking additional information to augment the record before finalizing such a change. As a consequence, EPA is not today proposing to remove the molybdenum limitations and standards as requested by NORA; however, EPA plans to evaluate closely any additional information it receives on this subject. When EPA promulgates the final rule, we will likely delete these limitations and standards from the organics subcategory and the related sections of the multiple wastestream subcategory if we receive adequate supporting documentation. The discussion below describes the kind of information EPA would need before it could delete the molybdenum limitations and standards from the CWT organics subcategory.

Commenters should submit information showing that well-designed and well-operated treatment systems employing the BAT technology used as the basis for the organics subcategory limitations and standards will not provide consistent and predictable removals for molybdenum.

The information and data should characterize the influent pollutant levels (including molybdenum) as well as the effluent levels being discharged in the treated final effluent resulting from the treatment of organics waste receipts at facilities with BAT technology for the organics subcategory. To the extent possible, we want to characterize organics subcategory treatment prior to commingling with wastewaters from other subcategories, non-contaminated stormwater, or other sources of water.

Comments should include sufficient information and data to determine if the biological treatment system is well-designed and well-operated during the sampling period(s). To the extent possible, the information and data should include (1) block diagrams identifying the influent, intermediate, and final outfall sampling points; holding tanks and equalization units; each component or stage of the biological treatment system; and any post biological unit operations; (2) the hydraulic and pollutant load design bases including hydraulic residence times in each stage of the biological treatment system; (3) the operational information and data that demonstrate good operation for the sampling period(s); (4) relative flows of the influent waste receipts and equalization characteristics; and (5) analytical and flow data for each sampling point including, to the extent available, the design and operation parameters, molybdenum, total suspended solids (TSS), 5-day biochemical oxygen demand (BOD5), chemical oxygen demand (COD), and other regulated and relevant parameters. Please note what types of samples were collected at each sampling point (grab or composite) as well as the analytical methods used. If grab sample data are provided, please document how the grab samples represent typical wastewater characteristics. The rationale should at least address the flow and concentration variability of the organics subcategory waste receipts and any other commingled wastestreams as well as the residence times and mixing characteristics of any equalization unit operations.

IX. POTW Pretreatment Program Alternatives in Light of the December 22, 2003 Compliance Deadline

EPA is likely to take final action on today's proposal with only a short amount of time remaining before the December 22, 2003, deadline for indirect dischargers to comply with the 2000 pretreatment standards that are the subject of today's proposal. EPA understands that POTWs are already preparing pretreatment control mechanisms to implement those pretreatment standards. In view of the fact that EPA's rulemaking and the issuance of pretreatment control mechanisms are proceeding on parallel tracks, EPA recommends that the POTWs consider one of several approaches to account for the situation. For example, a POTW could decide to include, in the proposed and, if necessary, final amendments to its local pretreatment program, alternative sets of limitations that reflect both the requirements as they exist in unamended form today and the requirements that would apply if EPA promulgates amendments as proposed today. The first set of limitations would establish requirements for each pollutant and subcategory as published in the 2000 rule. The second set of limitations would state that, if prior to December 22, 2003, EPA has amended part 437 to remove pretreatment standards for selenium, barium, molybdenum, antimony, and titanium for certain specified subcategories, then the limitations specified above for those pollutants and subcategories would not apply.

Alternatively, EPA recommends that the POTWs consider including, in the proposed and, if necessary, final amendments to its pretreatment program a provision stating that the limitations for selenium, barium, molybdenum, antimony, and titanium correspond to those pretreatment standards that are in effect for Clean Water Act purposes on December 22, 2003. By including a provision like this, the POTW can incorporate the most recent EPA decisions regarding pretreatment standards for these pollutants without the need for further administrative proceeding. The POTW would be free, of course, following promulgation of any changes to the pretreatment standards to revise its local pretreatment program specifically to reflect any changes.

X. Statutory and Executive Order Reviews

A. Executive Order 12866: Regulatory Planning and Review

Under Executive Order 12866 [58 FR 51735, (October 4, 1993)], the Agency must determine whether a regulatory action is “significant” and therefore subject to Office of Management and Budget (OMB) review and the requirements of the Executive Order. The Order defines “significant regulatory action” as one that is likely to result in a rule that may:

(1) Have an annual effect on the economy of $100 million or more or adversely affect in a material way the economy, a sector of the economy, productivity, competition, jobs, the environment, public health or safety, or State, local, or tribal governments or communities;

(2) Create a serious inconsistency or otherwise interfere with an action taken or planned by another agency;

(3) Materially alter the budgetary impact of entitlements, grants, user fees, or loan programs or the rights and obligations of recipients thereof; or

(4) Raise novel legal or policy issues arising out of legal mandates, the President's priorities, or the principles set forth in the Executive Order.

It has been determined that this proposal is not a “significant regulatory action” under the terms of Executive Order 12866 and is therefore not subject to OMB review.

B. Paperwork Reduction Act

This action would not impose an information collection burden under the provisions of the Paperwork Reduction Act, 44 U.S.C. 3501 et. seq. It would merely delete the limitations for five pollutants from certain provisions of the current rule and corrects a limitation for another pollutant that was incorrectly transcribed from the version signed by the EPA Administrator. Consequently, today's proposed rule does not establish any new information collection burden on the regulated community.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An Agency may not conduct or sponsor, and a person is not required to respond to a collection of information unless it displays a currently valid OMB control number. The OMB control numbers for EPA's regulations in 40 CFR are listed in 40 CFR part 9.

C. Regulatory Flexibility Act

The Regulatory Flexibility Act (RFA), as amended by the Small Business Regulatory Enforcement Fairness Act of 1996 (SBREFA), 5 U.S.C. 601 et seq., generally requires an agency to prepare a regulatory flexibility analysis of any rule subject to notice and comment rulemaking requirements under the Administrative Procedure Act or any other statute unless the agency certifies that the rule will not have a significant economic impact on a substantial number of small entities. Small entities include small businesses, small organizations and small governmental jurisdictions.

For purposes of assessing the impact of today's proposed rule on small entities, a small entity is defined as (1) a small business with gross revenue under $6 million (based on Small Business Administration size standards); (2) a small governmental jurisdiction that is a government of a city, county, town, school district or special district with a population less than 50,000; and (3) a small organization that is any not-for-profit enterprise which is independently owned and operated and is not dominant in its field.

After considering the economic impacts of today's proposed rule on small entities, I certify that this action will not have a significant economic impact on a substantial number of small entities. The proposal rule removes or revises the limitations and standards for five pollutants from certain provisions of the current rule and corrects an error in another provision. These changes reduce the economic impacts of the regulation on those entities, including small entities, subject to the limitations and pretreatment standards. The estimated reduction in the analytical laboratory costs of compliance is about $496,000 (DCN 47.6). The change to the BOD5 limitation will result in no change in economic burden because this modification merely corrects the limitation to reflect the BOD5 limitation in the August 28, 2000, version of the regulation signed by the Administrator.

We continue to be interested in the potential impacts of this proposed rule on small entities and welcome comments on issues related to such impacts.

D. Unfunded Mandates Reform Act

Title II of the Unfunded Mandates Reform Act of 1995 (UMRA), Pub. L. 104-4, establishes requirements for Federal agencies to assess the effects of their regulatory actions on State, local, and tribal governments and the private sector. Under Section 202 of the UMRA, EPA generally must prepare a written statement, including a cost-benefit analysis, for proposed and final rules with “Federal mandates” that may result in expenditures to State, local, and tribal governments, in the aggregate, or to the private sector, of $100 million or more in any one year. Before promulgating an EPA rule for which a written statement is needed, section 205 of the UMRA generally requires EPA to identify and consider a reasonable number of regulatory alternatives and adopt the least costly, most cost-effective, or least burdensome alternative that achieves the objectives of the rule. The provisions of section 205 do not apply when they are inconsistent with applicable law. Moreover, section 205 allows EPA to adopt an alternative other than the least costly, most cost-effective, or least burdensome alternative if the Administrator publishes with the final rule an explanation why that alternative was not adopted. Before EPA establishes any regulatory requirements that may significantly or uniquely affect small governments, including tribal governments, it must have developed, under section 203 of the UMRA, a small government agency plan. The plan must provide for notifying potentially affected small governments, enabling officials of affected small governments to have meaningful and timely input in the development of EPA regulatory proposals with significant Federal intergovernmental mandates, and informing, educating, and advising small governments on compliance with the regulatory requirements.

EPA has determined that this proposed rule does not contain a Federal mandate that may result in expenditures of $100 million or more for State, local and tribal governments, in the aggregate, or the private sector in any one year. It deletes or revises the limitations and standards for five pollutants from certain provisions of the CWT guideline and corrects an inadvertent error in another limitation in the codified version of the current rule. The effect of these changes is to reduce the cost of the CWT regulations promulgated earlier. Thus, today's proposed rule is not subject to the requirements of sections 202 and 205 of the UMRA.

For the same reason, EPA has determined that this proposal contains no regulatory requirements that might significantly or uniquely affect small governments. The proposal, if promulgated, would not uniquely affect small governments because small and large governments are affected in the same way. Thus, today's proposed rule is not subject to the requirements of section 203 of the UMRA.

E. Executive Order 13132: Federalism

Executive Order 13132, entitled “Federalism” (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

This proposed rule does not have federalism implications. It will not have substantial direct effects on the States, on the relationship between the national government and the States, or on the distribution of power and responsibilities among the various levels of government, as specified in Executive Order 13132. Today's proposed rule would amend effluent limitations and pretreatment standards which impose requirements that apply to facilities when they discharge wastewater or introduce wastewater to a POTW. It deletes or revises the limitations and standards for five pollutants from certain provisions of the CWT guideline and corrects an inadvertent error in another limitation in the codified version of the current rule. EPA has determined that there are no CWT facilities owned and/or operated by State or local governments that would be subject to today's proposed rule. Further, the proposed rule would only incidentally affect State and local governments in their capacity as implementers of CWA NPDES permitting programs and approved pretreatment programs. Thus, Executive Order 13132 does not apply to this proposed rule. In the spirit of Executive Order 13132, and consistent with EPA policy to promote communications between EPA and State and local governments, EPA specifically solicits comment on this proposed rule from State and local officials.

F. Executive Order 13175: Consultation and Coordination With Indian Tribal Governments

Executive Order 13175, entitled “Consultation and Coordination with Indian Tribal Governments” (65 FR 67249, November 9, 2000), requires EPA to develop an accountable process to ensure “meaningful and timely input by tribal officials in the development of regulatory policies that have tribal implications.” “Policies that have tribal implications” are defined in the Executive Order to include regulations that have “substantial direct effects on one or more Indian tribes, on the relationship between the Federal government and the Indian tribes, or on the distribution of power and responsibilities between the Federal government and Indian tribes.”

This proposed rule does not have tribal implications. It will not have substantial direct effects on tribal governments, on the relationship between the Federal government and Indian tribes or on the distribution of power and responsibilities between the Federal government and Indian tribes. It deletes or revises the limitations and standards for five pollutants from certain provisions of the current rule and corrects an inadvertent printing error in another section. EPA has not identified any CWT facilities covered by today's proposed rule that are owned and/or operated by Indian tribal governments. No Indian tribes are responsible for implementing the CWA NPDES permitting program. Thus, Executive Order 13175 does not apply to this rule. In the spirit of Executive Order 13175, and consistent with EPA policy to promote communications between EPA and tribal governments, EPA specifically solicits comments on this proposed rule from tribal officials.

G. Executive Order 13045: Protection of Children From Environmental Health Risks and Safety Risks

Executive Order 13045: “Protection of Children from Environmental Health Risks and Safety Risks” (62 FR 19885, April 23, 1997) applies to any rule that: (1) is determined to be “economically significant” as defined under Executive Order 12866, and (2) concerns an environmental health or safety risk that EPA has reason to believe may have a disproportionate effect on children. If the regulatory action meets both criteria, the Agency must evaluate the environmental health or safety effects of the planned rule on children and explain why the planned regulation is preferable to other potentially effective and reasonably feasible alternatives considered by the Agency.

This proposal is not subject to E.O. 13045 because it is not economically significant as defined under Executive Order 12866. Further, this proposal does not concern an environmental health or safety risk that EPA has reason to believe may have a disproportionate effect on children.

H. Executive Order 13211: Actions That Significantly Affect Energy Supply, Distribution, or Use

This proposal is not subject to Executive Order 13211, “Actions Concerning Regulations That Significantly Affect Energy Supply, Distribution, or Use” (66 FR 28355; May 22, 2001) because it is not a significant regulatory action under Executive Order 12866.

I. National Technology Transfer and Advancement Act

Section 12(d) of the National Technology Transfer and Advancement Act of 1995 (“NTTAA”), Public Law 104-113, section 12(d), (15 U.S.C. 272 note), directs EPA to use voluntary consensus standards in its regulatory activities unless to do so would be inconsistent with applicable law or otherwise impractical. Voluntary consensus standards are technical standards (e.g., materials specifications, test methods, sampling procedures, business practices) that are developed or adopted by voluntary consensus standards bodies. The NTTAA directs EPA to provide Congress, through the Office of Management and Budget (OMB), explanations when the Agency decides not to use available and applicable voluntary consensus standards.

This action does not involve technical standards. Therefore, EPA did not consider the use of any voluntary consensus standards.

List of Subjects in 40 CFR Part 437

Environmental protection, Waste treatment and disposal, Water pollution control.

Dated: September 2, 2003.
Marianne Lamont Horinko,
Acting Administrator.

For reasons set out in the preamble, 40 CFR chapter I is proposed to be amended as follows:

PART 437—THE CENTRALIZED WASTE TREATMENT POINT SOURCE CATEGORY

1. The authority citation for part 437 is revised to read as follows:

Authority: 33 U.S.C. 1311, 1314, 1316, 1317, 1318, 1342, and 1361.

§ 437.11 [Amended]

2. Section 437.11(a) is amended by removing the entry for “Selenium” in the BPT Limitations table, under the heading “Metal Parameters.”

§ 437.13 [Amended]

3. Section 437.13(a) is amended by removing “selenium,.”

§ 437.15 [Amended]

4. Section 437.15(a) is amended by removing “selenium,.”

§ 437.16 [Amended]

5. Section 437.16(a) is amended by removing “selenium,.”

§ 437.21 [Amended]

6. Section 437.21 is amended by removing the following entries in the BPT Limitations table, under the heading “Metal Parameters”:

a. Antimony.

b. Barium.

c. Molybdenum.

d. Titanium.

§ 437.23 [Amended]

7. Section 437.23 is amended by removing the following entries:

a. “antimony,.”

b. “barium,.”

c. “molybdenum,.”

d. “titanium,.”

§ 437.24 [Amended]

8. Section 437.24 is amended by removing the following entries:

a. “antimony,.”

b. “barium,.”

c. “molybdenum,.”

d. “titanium,.”

§ 437.25 [Amended]

9. Section 437.25 is amended by removing the following entries in the Pretreatment Standards (PSES) table, under the heading “Metal Parameters'':

a. Antimony.

b. Barium.

c. Molybdenum.

§ 437.26 [Amended]

10. Section 437.26 is amended by removing the following entries:

a. “antimony,.”

b. “barium,.”

c. “molybdenum,.”

§ 437.42 [Amended]

11. Section 437.42 is amended as follows:

a. In paragraph (b)(1) by removing the following entries in the BPT Limitations table, under the heading “Metal Parameters'':

i. Barium.

ii. Selenium.

b. In paragraph (b)(1) by revising the entry for “Antimony” in the BPT Limitations table under the heading “Metal Parameters” to read as follows:

§ 437.42 Effluent limitations attainable by the application of the best practicable control technology currently available (BPT).

* * * * *

(b) * * *

(1) * * *

BPT Limitations
Regulated parameter | Maximum daily¹ | Maximum monthly avg.¹
| * * * * * * *
Metal Parameters
Antimony | 0.249 | 0.206
* * * * * * *
¹mg/L (ppm).

* * * * *

c. In paragraph (b)(1) by revising the entry for “Titanium” in the BPT Limitations table under the heading “Metal Parameters” to read as follows:

§ 437.42 Effluent limitations attainable by the application of the best practicable control technology currently available (BPT).

* * * * *

(b) * * *

(1) * * *

BPT Limitations
Regulated parameter | Maximum daily¹ | Maximum monthly avg.¹
* * * * * * *
Metal Parameters
* * * * * * *
Titanium | 0.0947 | 0.0618
* * * * * * *
¹mg/L (ppm).

* * * * *

d. In paragraph (c)(1) by removing the following entries in the BPT Limitations table, under the heading “Metal Parameters'':

i. Barium.

ii. Molybdenum.

iii. Selenium.

e. In paragraph (c)(1) by revising the entry for “Antimony” in the BPT Limitations table under the heading “Metal Parameters” to read as follows:

§ 437.42 Effluent limitations attainable by the application of the best practicable control technology currently available (BPT).

* * * * *

(c) * * *

(1) * * *

BPT Limitations
Regulated parameter | Maximum daily¹ | Maximum monthly avg.¹
* * * * * * *
Metal Parameters
Antimony | 0.249 | 0.206
* * * * * * *
¹mg/L (ppm).

* * * * *

f. In paragraph (c)(1) by revising the entry for “Titanium” in the BPT Limitations table under the heading “Metal Parameters” to read as follows:

§ 437.42 Effluent limitations attainable by the application of the best practicable control technology currently available (BPT).

* * * * *

(c) * * *

(1) * * *

BPT Limitations
Regulated parameter | Maximum daily¹ | Maximum monthly avg.¹
* * * * * * *
Metal Parameters
* * * * * * *
Titanium | 0.0947 | 0.0618
* * * * * * *
¹mg/L (ppm).

* * * * *

g. Paragraph (d)(1) is amended by:

i. Revising the entry for “BOD5” in the BPT Limitations table under the heading “Conventional Parameters” as follows:

§ 437.42 Effluent limitations attainable by the application of the best practicable control technology currently available (BPT).

* * * * *

(d) * * *

(1) * * *

BPT Limitations
Regulated parameter | Maximum daily ¹ | Maximum monthly avg.¹
Conventional Parameters
BOD5 | 163 | 53.0
* * * * * * *
¹mg/L (ppm).

* * * * *

ii. Removing the entry for “Selenium” in the BPT Limitations table under the heading “Metal Parameters.”

h. Paragraph (e) is amended by removing the following entries in the BPT Limitations table under the heading “Metal Parameters'':

i. Barium.

ii. Titanium.

i. Paragraph (e) is amended by revising the entry for “Antimony” in the BPT Limitations table under the heading “Metal Parameters” to read as follows:

§ 437.42 Effluent limitations attainable by the application of the best practicable control technology currently available (BPT).

* * * * *

(e) * * *

BPT Limitations
Regulated parameter | Maximum daily¹ | Maximum monthly avg.¹
* * * * * * *
Metal Parameters
Antimony | 0.928 | 0.679
* * * * * * *
¹mg/L (ppm).

* * * * *

§ 437.44 [Amended]

12. Section 437.44 is amended as follows:

a. In paragraph (b)(1) by removing the following entries in the BAT Limitations table, under the heading “Metal Parameters'':

i. Barium.

ii. Selenium.

b. In paragraph (c)(1) by removing the following entries in the BAT Limitations table, under the heading “Metal Parameters'':

i. Barium.

ii. Molybdenum.

iii. Selenium.

c. In paragraph (d)(1) by removing the entry for “Selenium” in the BAT Limitations table under the heading “Metal Parameters.”

d. In paragraph (e) by removing the following entries in the BAT Limitations table under the heading “Metal Parameters'':

i. Barium.

ii. Titanium.

§ 437.45 [Amended]

13. Section 437.45 is amended as follows:

a. In paragraph (b)(1) by removing the entry for “Barium” in the Performance Standards table, under the heading “Metal Parameters.”

b. In paragraph (c)(1) by removing the following entries in the Performance Standards table, under the heading “Metal Parameters”:

i. Barium.

ii. Molybdenum.

c. In paragraph (e) by removing the following entries in the Performance Standards table under the heading “Metal Parameters”:

i. Barium.

ii. Titanium.

d. In paragraph (e) by revising the entry for “Antimony” in the Performance Standards table under the heading “Metal Parameters” to read as follows:

§ 437.45 New Source Performance Standards.

* * * * *

(e) * * *

Performance Standards
Regulated parameter | Maximum daily¹ | Maximum monthly avg.¹
* * * * * * *
Metal Parameters
* * * * * * *
Antimony | 0.928 | 0.679
* * * * * * *
¹ mg/L (ppm).

* * * * *

§ 437.46 [Amended]

14. Section 437.46 is amended as follows:

a. In paragraph (b)(1) by removing the following entries in the Pretreatment Standards (PSES) table, under the heading “Metal Parameters”:

i. Barium.

ii. Selenium.

b. In paragraph (b)(1) by revising the entry for “Antimony” in the Pretreatment Standards (PSES) table under the heading “Metal Parameters” to read as follows:

§ 437.46 Pretreatment Standards for Existing Sources (PSES).

* * * * *

(b) * * *

(1) * * *

Pretreatment Standards (PSES)
Regulated parameter | Maximum daily¹ | Maximum monthly avg.¹
* * * * * * *
Metal Parameters
Antimony | 0.249 | 0.206
* * * * * * *
¹ mg/L (ppm).

* * * * *

c. In paragraph (c)(1) by removing the following entries in the Pretreatment Standards (PSES) table, under the heading “Metal Parameters”:

i. Barium.

ii. Molybdenum.

iii. Selenium.

d. In paragraph (c)(1) by revising the entry for “Antimony” in the Pretreatment Standards (PSES) table under the heading “Metal Parameters” to read as follows:

§ 437.46 Pretreatment Standards for Existing Sources (PSES).

* * * * *

(c) * * *

(1) * * *

Pretreatment Standards (PSES)
Regulated parameter | Maximum daily¹ | Maximum monthly avg.¹
* * * * * * *
Metal Parameters
Antimony | 0.249 | 0.206
* * * * * * *
¹ mg/L (ppm).

* * * * *

e. In paragraph (d)(1) by removing the entry for “Selenium” in the Pretreatment Standards (PSES) table under the heading “Metal Parameters.”

f. In paragraph (e) by removing the following entries in the Pretreatment Standards (PSES) table under the heading “Metal Parameters”:

i. Antimony.

ii. Barium.

§ 437.47 [Amended]

15. Section 437.47 is amended as follows:

a. In paragraph (b)(1) by removing the following entries in the Pretreatment Standards (PSNS) table, under the heading “Metal Parameters”:

i. Barium.

ii. Selenium.

b. In paragraph (b)(1) by revising the entry for “Antimony” in the Pretreatment Standards (PSNS) table under the heading “Metal Parameters” to read as follows:

§ 437.47 Pretreatment Standards for Existing Sources (PSNS).

* * * * *

(b) * * *

(1) * * *

Pretreatment Standards (PSNS)
Regulated parameter | Maximum daily¹ | Maximum monthly avg.¹
* * * * * * *
Metal Parameters
Antimony | 0.249 | 0.206
* * * * * * *
¹ mg/L (ppm).

* * * * *

c. In paragraph (c)(1) by removing the following entries in the Pretreatment Standards (PSNS) table, under the heading “Metal Parameters”:

i. Barium.

ii. Molybdenum.

iii. Selenium.

d. In paragraph (c)(1) by revising the entry for “Antimony” in the Pretreatment Standards (PSNS) table under the heading “Metal Parameters” to read as follows:

§ 437.47 Pretreatment Standards for Existing Sources (PSNS).

* * * * *

(c) * * *

(1) * * *

Pretreatment Standards (PSNS)
Regulated parameter | Maximum daily¹ | Maximum monthly avg.¹
* * * * * * *
Metal Parameters
Antimony | 0.249 | 0.206
* * * * * * *
¹ mg/L (ppm).

* * * * *

e. In paragraph (d)(1) by removing the entry for “Selenium” in the Pretreatment Standards (PSNS) table under the heading “Metal Parameters.”

f. In paragraph (e) by removing the following entries in the Pretreatment Standards (PSNS) table under the heading “Metal Parameters”:

i. Antimony.

ii. Barium.

[FR Doc. 03-22930 Filed 9-9-03; 8:45 am]

BILLING CODE 6560-50-P